FEDERAL TRADE COMMISSION

16 CFR Part 312

RIN 3084-AB20

Children's Online Privacy Protection Rule

AGENCY: Federal Trade Commission.

ACTION: Correcting amendment.

SUMMARY: The Federal Trade Commission published final rule amendments to the Children's Online Privacy Protection Rule on January 17, 2013 to update the requirements set forth in the notice, parental consent, confidentiality and security, and safe harbor provisions. This document makes a technical correction in that final rule.

DATES: Effective on December 20, 2013.

FOR FURTHER INFORMATION CONTACT: Kristin Krause Cohen, (202) 326-2276, Attorney, Division of Privacy and Identity Protection, Bureau of Consumer Protection, Federal Trade Commission, 600 Pennsylvania Avenue NW., Washington, DC 20580.

SUPPLEMENTARY INFORMATION: This document makes a technical correction in the Children's Online Privacy Protection Rule.

List of Subjects in 16 CFR Part 312

Children, Communications, Consumer protection, Electronic mail, Email, Internet, Online service, Privacy, Record retention, Safety, science and technology, Trade practices, Web site, Youth.

Accordingly, 16 CFR part 312 is corrected by making the following correcting amendment:

PART 312—CHILDREN'S ONLINE PRIVACY PROTECTION RULE

1. The authority citation for part 312 continues to read as follows:

Authority: 15 U.S.C. 6501-6508.

§ 312.11 [Amended]

2. In § 312.11, amend the last sentence of paragraph (d)(1) by removing “§ 312.5(b)(4)” and adding in its place “§ 312.5(b)(3)”.

By direction of the Commission.
Donald S. Clark,
Secretary.

[FR Doc. 2013-30293 Filed 12-19-13; 8:45 am]

BILLING CODE 6750-01-P